FEDERAL TRADE COMMISSION

Granting of Request for Early Termination of the Waiting Period Under the Premerger Notification Rules

Section 7A of the Clayton Act, 15 U.S.C. 18a, as added by Title II of the Hart-Scott-Rodin Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted June 1, 2014 thru June 30, 2014
06/02/2014
20140916 | G | Ares Owners Holdings, L.P.; Keltic Financial Partners II, LP; Ares Owners Holdings, L.P.
20140926 | G | The Guardian Life Insurance Company of America; Reza Abbaszadeh, DDS; The Guardian Life Insurance Company of America.
06/03/2014
20140903 | G | JANA Offshore Partners, Ltd.; Walgreen Co.; JANA Offshore Partners, Ltd.
20140904 | G | JANA Nirvana Offshore Fund, Ltd.; Walgreen Co.; JANA Nirvana Offshore Fund, Ltd.
20140954 | G | GI Partners Fund IV L.P.; Welsh Carson Anderson & Stowe XI, LP; GI Partners Fund IV L.P.
20140961 | G | Gannett Co., Inc.; SunTX LBC Holdings, L.P.; Gannett Co., Inc.
20140964 | G | CCMP Capital Investors III, L.P.; Oak Hill Capital Partners III, L.P.; CCMP Capital Investors III, L.P.
20140965 | G | Gilles Martin; ViraCor-IBT Laboratories, Inc.; Gilles Martin.
20140966 | G | Acxiom Corporation; LiveRamp, Inc.; Acxiom Corporation.
20140967 | G | PAR Investment Partners, L.P.; Global Eagle Entertainment Inc.; PAR Investment Partners, L.P.
20140969 | G | ShawCor Ltd.; SCP IV Desert AIV L.P.; ShawCor Ltd.
20140975 | G | GHD Group Pty Ltd; CRA Holdings Inc.; GHD Group Pty Ltd.
06/04/2014
20140390 | G | Meredith Corporation; Gannett Co., Inc.; Meredith Corporation.
06/05/2014
20140843 | G | Cadence Design Systems, Inc.; Jasper Design Automation, Inc.; Cadence Design Systems, Inc.
20140941 | G | David A. Siegel; The Goldman Sachs Group, Inc.; David A. Siegel.
20140955 | G | Permira V L.P. 2; GFI Software S.A.; Permira V L.P. 2.
20140960 | G | Shire plc; Lumena Pharmaceuticals, Inc.; Shire plc.
20140968 | G | Golden Gate Capital Opportunity Fund, L.P.; Darden Restaurants, Inc.; Golden Gate Capital Opportunity Fund, L.P.
20140972 | G | TAC Holding Company; Global T&M Holdings LLC; TAC Holding Company.
20140982 | G | First Reserve Fund XI, L.P.; Forest Oil Corporation; First Reserve Fund XI, L.P.
06/06/2014
20140943 | G | Radian Group Inc.; Greenfield Acquisition Partners V. L.P.; Radian Group Inc.
20140981 | G | Levine Leichtman Capital Partners V, L.P.; Transportation Resource Partners, L.P. Levine Leichtman Capital Partners V, L.P.
20140987 | G | Triton Fund IV L.P.; GEA Group Aktiengesellschaft; Triton Fund IV L.P.
20141032 | G | Daniel Gilbert; Destination Media, Inc.; Daniel Gilbert.
06/10/2014
20140988 | G | Applied Industrial Technologies, Inc.; Alex Dan Knox; Applied Industrial Technologies, Inc.
20140992 | G | The Babcock & Wilcox Company; MEGTEC Partners, L.P.; The Babcock & Wilcox Company.
20141002 | G | 2409962 Ontario Limited; Sharon and Ronnie Matthews; 2409962 Ontario Limited.
20141006 | G | Clayton, Dubilier & Rice Fund IX, L.P.; Metalmark Capital Partners, L.P.; Clayton, Dubilier & Rice Fund IX, L.P.
20141007 | G | Intuit Inc.; Check Inc.; Intuit Inc.
20141009 | G | Sentinel Capital Partners V, L.P.; The Marilyn Carlson Nelson 1998 GST Family Trust; Sentinel Capital Partners V, L.P.
20141010 | G | Sentinel Capital Partners V, L.P.; The Barbara Carlson Gage 1998 GST Family Trust; Sentinel Capital Partners V. L.P.
20141015 | G | New Source Energy Partners, L.P. Mark Snodgrass; New Source Energy Partners, L.P.
20141016 | G | New Source Energy Partners, L.P.; Brian Austin; New Source Energy Partners, L.P.
20141017 | G | Warburg Pincus Private Equity XI, L.P.; Odyssey Investment Partners Fund IV, L.P.; Warburg Pincus Private Equity XI, L.P.
20141018 | G | Clayton, Dubilier & Rice Fund IX, L.P.; Dubai Holding LLC; Clayton, Dubilier & Rice Fund IX, L.P.
20141023 | G | Novacap Industries III, L.P.; Leonard J. Mendel; Novacap Industries III, L.P.
20141027 | G | Teva Pharmaceutical Industries Limited; The Procter & Gamble Company; Teva Pharmaceutical Industries Limited.
20141028 | G | The Procter & Gamble Company; Teva Pharmaceuticals Industries Limited; The Procter & Gamble Company.
20141031 | G | Henry Schein, Inc.; SmartPak Equine, LLC; Henry Schein, Inc.
06/11/2014
20140938 | G | Blue Harbour Active Ownership Partners, L.P.; Investors Bancorp, Inc.; Blue Harbour Active Ownership Partners, L.P.
20140974 | G | KKR North America Fund XI, L.P.; Michael S. Dell; KKR North America Fund XI, L.P.
20141021 | G | GDF SUEZ S.A.; Avista Corporation; GDF SUEZ S.A.
20141025 | G | Lindsay Goldberg III L.P.; MBWS Ultimate Holdco Inc.; Lindsay Goldberg III L.P.
06/12/2014
20140952 | G | Blue Harbour Strategic Value Partners Offshore, Ltd.; Investors Bancorp, Inc.; Blue Harbour Strategic Value Partners Offshore, Ltd.
06/13/2014
20140798 | G | US Ecology, Inc.; EQ Group, LLC; US Ecology, Inc.
20141020 | G | UNS Energy Corporation; Entegra Power Group LLC; UNS Energy Corporation.
20141033 | G | Fortis Inc.; UNS Energy Corporation; Fortis Inc.
20141034 | G | KKR North America Fund XI, UP.; Hellman & Friedman Capital Partners VI, L.P.; KKR North America Fund XI, L.P.
20141038 | G | Mitsubishi UFJ Lease & Finance Company Limited; Mitsubishi UFJ Financial Group, Inc.; Mitsubishi UFJ Lease & Finance Company Limited.
20141041 | G | The Energy & Minerals Group Fund III, LP; Terrence M. Pegula; The Energy & Minerals Group Fund III, LP.
20141047 | G | BRE Spade Parent LLC; Deutsche Bank AG; BRE Spade Parent LLC.
20141056 | G | Bridgestone Corporation; Masthead Industries, Inc.; Bridgestone Corporation.
06/17/2014
20140855 | G | Mars, Incorporated; The Procter & Gamble Company; Mars, Incorporated.
20140971 | G | Marcato International Ltd.; Life Time Fitness, Inc.; Marcato International Ltd.
20140980 | G | The Hillshire Brands Company; Pinnacle Foods Inc.; The Hillshire Brands Company.
20140984 | G | Blackstone Capital Partners V, L.P.; The Hillshire Brands Company; Blackstone Capital Partners V, L.P.
20140985 | G | BCPV Pinnacle Holdings LLC; The Hillshire Brands Company; BCPV Pinnacle Holdings LLC.
20141044 | G | Element Financial Corporation; PHH Corporation; Element Financial Corporation.
20141048 | G | TrueBlue, Inc.; Leeds Equity Partners IV, L.P.; TrueBlue, Inc.
20141062 | G | Rosneft Oil Company; Morgan Stanley; Rosneft Oil Company.
06/19/2014
20140973 | G | Telephone and Data Systems Inc. Voting Trust; Donald and Rilda Tykeson; Telephone and Data Systems Inc. Voting Trust.
20140997 | G | Reckitt Benckiser Group plc; Xenoport, Inc.; Reckitt Benckiser Group plc.
20141030 | G | QUALCOMM Incorporated; Wilocity Ltd.; QUALCOMM Incorporated.
20141069 | G | Danaher Corporation; ANGI Energy Systems, Inc.; Danaher Corporation.
06/20/2014
20141045 | G | Danaher Corporation; Paul D. Porteous; Danaher Corporation.
20141054 | G | Marcato International Ltd.; InterContinental Hotels Group PLC; Marcato International Ltd.
20141055 | G | Marcato, L.P.; InterContinental Hotels Group PLC; Marcato, L.P.
20141067 | G | Henkel AG & Co. KGaA; TSG5 L.P.; Henkel AG & Co. KGaA.
20141071 | G | Albany Molecular Research, Inc.; Altaris Health Partners II, L.P.; Albany Molecular Research, Inc.
20141075 | G | TransForce Inc.; Marathon Fund Limited Partnership V; TransForce Inc.
20141076 | G | NRG Energy, Inc.; Terra-Gen Power Holdings, LLC; NRG Energy, Inc.
20141086 | G | Google Inc.; Skybox Imaging, Inc.; Google Inc.
20141089 | G | Quartet Merger Corp.; Pangaea Logistics Solutions Ltd.; Quartet Merger Corp.
20141090 | G | NGL Energy Partners LP; Morgan Stanley; NGL Energy Partners LP.
20141091 | G | Steven A. Ballmer; Rochelle H. & Donald T. Sterling; Steven A. Ballmer.
20141095 | G | Phillips 66; Chevron Corporation; Phillips 66.
20141101 | G | Riverstone Global Energy and Power Fund V (FT), L.P.; RJS Power Holdings LLC; Riverstone Global Energy and Power Fund V (FT), L.P.
20141107 | G | Linden Capital Partners II, LP; Kersdale Holdings, LLC; Linden Capital Partners II, LP.
20141113 | G | Avista Capital Partners II, L.P.; Avista Capital Partners II, L.P.; Avista Capital Partners II, L.P.
06/23/2014
20141084 | G | Audax Private Equity Fund IV, L.P.; Aztec Holding Corporation; Audax Private Equity Fund IV, L.P.
20141096 | G | Marathon Petroleum Corporation; Hess Corporation; Marathon Petroleum Corporation.
06/24/2014
20141093 | G | Green Equity Investors Side VI, L.P.; Nathan Kirsh; Green Equity Investors Side VI, L.P.
20141094 | G | Green Equity Investors VI, L.P.; Nathan Kirsh; Green Equity Investors VI, L.P.
20141098 | G | Helen of Troy Limited; ASP III Alternative Investments, LP.; Helen of Troy Limited.
20141100 | G | Pernod Ricard S.A.; Avion Tequila LLC; Pernod Ricard S.A.
20141122 | G | Fresenius Medical Care AG & Co. KGaA; TowerBrook Investors II, L.P. Fresenius Medical Care AG & Co. KGaA.
20141126 | G | Jindal SAW Limited; PSL-North America LLC; Jindal SAW Limited.
06/25/2014
20141111 | G | Goodbaby International Holdings Limited; Weston Presidio V, L.P.; Goodbaby International Holdings Limited.
06/26/2014
20141039 | G | Starboard Leaders Fund LP; MeadWestvaco Corporation; Starboard Leaders Fund LP.
20141087 | G | Pacific DataVision, Inc.; Softbank Corp.; Pacific DataVision, Inc.
20141092 | G | Hikma Pharmaceuticals PLC; C.H. Boehringer Sohn AG & Co. KG; Hikma Pharmaceuticals PLC.
06/27/2014
20140585 | G | Martin Marietta Materials, Inc.; Texas Industries, Inc.; Martin Marietta Materials, Inc.
20141099 | G | General Atlantic Partners 96, LP.; tradeMONSTER Group Inc.; General Atlantic Partners 96, L.P.
20141102 | G | General Atlantic Partners 96, L.P.; Matthew Hulsizer and Jennifer Just; General Atlantic Partners 96, L.P.
06/30/2014
20140689 | G | Actavis plc; Forest Laboratories, Inc.; Actavis plc.
20141040 | G | UnitedHealth Group Incorporated; ProHEALTH Corp.; UnitedHealth Group Incorporated.
20141051 | G | Bayer AG; Merck & Co., Inc.; Bayer AG.
20141052 | G | Merck & Co., Inc.; Bayer AG; Merck & Co., Inc.
20141070 | G | Carl C. Icahn; Family Dollar Stores, Inc.; Carl C. Icahn.
20141109 | G | Accel-KKR Capital Partners III, LP; HighJump Acquisition LLC; Accel-KKR Capital Partners III, LP.
20141118 | G | United Farmers Cooperative; Central Valley Ag Cooperative Nonstock; United Farmers Cooperative.
20141124 | G | The Williams Companies, Inc.; Access Midstream Partners, L.P.; The Williams Companies, Inc.
20141125 | G | American Securities Partners VI, L.P.; Sun Capital Partners IV, L.P.; American Securities Partners VI, L.P.
20141128 | G | Mr. and Mrs. Peter M. and Marshia Carlino; Gaming and Leisure Properties, Inc.; Mr. and Mrs. Peter M. and Marshia Carlino.
20141133 | G | Nicholas Schorsch; Validus Partner Group Limited, LLC; Nicholas Schorsch.
20141134 | G | Wolverine Advisors, Inc; The Warranty Group, Inc.; Wolverine Advisors, Inc.
20141135 | G | Karman Topco L.P.; AGS Topco Holdings L.P.; Karman Topco L.P.
20141137 | G | L'Oreal S.A.; Toni Ko; L'Oreal S.A.
20141138 | G | Techne Corporation; ProteinSimple; Techne Corporation.
20141139 | G | SolarCity Corporation; Silevo, Inc.; SolarCity Corporation.
20141141 | G | FCPR Astorg V, managed by Astorg Partners SAS; Mr. Giorgio Tadolini; FCPR Astorg V. managed by Astorg Partners SAS.
20141142 | G | FCPR Astorg V, managed by Astorg Partners SAS; Mr. Marco Tadolini; FCPR Astorg V, managed by Astorg Partners SAS.
20141147 | G | Medical Professional Mutual Insurance Company; Preferred Professional Insurance Company; Medical Professional Mutual Insurance Company.

FOR FURTHER INFORMATION CONTACT: Renee Chapman, Contact Representative or Theresa Kingsberry, Legal Assistant, Federal Trade Commission, Premerger Notification Office, Bureau of Competition, Room H-303, Washington, DC 20580, (202) 326-3100.

By Direction of the Commission.
Donald S. Clark,
Secretary.

[FR Doc. 2014-16080 Filed 7-9-14; 8:45 am]

BILLING CODE 6750-01-M